ENVIRONMENTAL PROTECTION AGENCY

40 CFR Part 721

[EPA-HQ-OPPT-2005-0015; FRL-7779-7]

RIN 2070-AJ18

Perfluoroalkyl Sulfonates; Proposed Significant New Use Rule; Extension of Comment Period

AGENCY: Environmental Protection Agency (EPA).

ACTION: Proposed rule; extension of comment period.

SUMMARY: This document extends the public comment period established for the Proposed Significant New Use Rule for Perfluoroalkyl Sulfonates in the Federal Register issued on March 10, 2006 (71 FR 12311) (FRL-7740-6). In that proposed rule, EPA proposed to amend a significant new use rule (SNUR) under section 5(a)(2) of the Toxic Substances Control Act (TSCA) to include certain perfluoroalkyl sulfonates (PFAS) substances. EPA proposed to amend the PFAS SNUR at 40 CFR 721.9582 by adding a new Table 3 containing the remaining PFAS chemicals on the TSCA Inventory that are not already regulated by the SNUR. EPA believes that action is necessary because these chemical substances may be hazardous to human health and the environment. The required notice will provide EPA the opportunity to evaluate intended significant new uses and associated activities before they occur and, if necessary, to prohibit or limit those uses or activities.

DATES: Comments must be received on or before May 10, 2006.

ADDRESSES: Follow the detailed instructions as provided under ADDRESSES in the Federal Register document of March 10, 2006 (71 FR 12311).

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Amy Breedlove, Chemical Control Division (7405M), Office of Pollution Prevention and Toxics, Environmental Protection Agency, 1200 Pennsylvania Ave., NW., Washington, DC 20460-0001; telephone number: (202) 564-9823; e-mail address: breedlove.amy@epa.gov.

SUPPLEMENTARY INFORMATION:

I. General Information

The Agency included in the proposed rule a list of those who may be potentially affected by this action. If you have questions regarding the applicability of this action to a particular entity, consult the person listed under the FOR FURTHER INFORMATION CONTACT.

II. What Action is EPA taking?

This document extends the public comment period established in the Federal Register issued on March 10, 2006 (71 FR 12311). In that document, EPA proposed to amend a significant new use rule (SNUR) under section 5(a)(2) of the Toxic Substances Control Act (TSCA) to include certain perfluoroalkyl sulfonates (PFAS) substances. EPA proposed to amend the PFAS SNUR at 40 CFR 721.9582 by adding a new Table 3 containing the remaining PFAS chemicals on the TSCA Inventory that are not already regulated by the SNUR. EPA is hereby extending the comment period, which was set to end on April 10, 2006, to May 10, 2006.

III. What is the Agency's Authority for Taking this Action?

Section 5(a)(2) of TSCA (15 U.S.C. 2604(a)(2)) authorizes EPA to determine that a use of a chemical substance is a “significant new use.” EPA must make this determination by promulgating a rule after considering all relevant factors, including those listed in TSCA section 5(a)(2). These factors include the projected production volume of a chemical substance; the extent to which a use changes or increases the type, form, magnitude, or duration of exposure to the substance; and the reasonably anticipated manner of producing, processing, distributing, or disposing of the substance. EPA construes the statute to allow consideration of any other relevant factors, in addition to those listed in section 5(a)(2). Once EPA determines that a use of a chemical substance is a significant new use, and promulgates a SNUR, section 5(a)(1)(B) of TSCA requires persons to submit a Significant New Use Notice (SNUN) to EPA at least 90 days before they manufacture, import, or process the chemical substance for that use.

IV. Do Any Statutory and Executive Order Reviews Apply to this Action?

No. This action is not a rulemaking, it merely extends the date by which public comments on a proposed rule must be submitted to EPA on a proposed rule that previously published in the Federal Register of March 10, 2006 (71 FR 12311). For information about the applicability of the statutory and executive order reviews to the proposed rule, please refer to the discussion in Unit XII. of that document (71 FR 12311).

List of Subjects in 40 CFR Part 721

Environmental protection, Chemicals, Hazardous substances, Reporting and recordkeeping requirements.

Dated: April 4, 2006.
Charles M. Auer,
Director, Office of Pollution Prevention and Toxics.

[FR Doc. 06-3400 Filed 4-5-06; 1:17 pm]

BILLING CODE 6560-50-S